DEPARTMENT OF COMMERCE

Foreign-Trade Zones Board

[Docket 31-2009]

Foreign-Trade Zone 54—Clinton County, NY; Application for Reorganization Under Alternative Site Framework

An application has been submitted to the Foreign-Trade Zones (FTZ) Board (the Board) by Clinton County, New York, grantee of FTZ 54, requesting authority to reorganize the zone under the alternative site framework (ASF) adopted by the Board (74 FR 1170, 01/12/09; correction 74 FR 3987, 01/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR Part 400). It was formally filed on July 31, 2009.

The grantee's proposed service area under the ASF would be Clinton County, New York. If approved, the grantee would be able to serve sites throughout the service area based on companies' needs for FTZ designation. The proposed service area is adjacent to the Champlain Customs and Border Protection port of entry.

FTZ 54 was approved on February 14, 1980 (Board Order 153, 45 FR 12469, 02/26/80), and expanded on: September 23, 1982 (Board Order 196, 47 FR 43012, 09/30/82); May 29, 1996 (Board Order 829, 61 FR 28840, 06/06/96); May 29, 2001 (Board Order 1169, 66 FR 31612, 06/12/01); and November 16, 2001 (Board Order 1199, 66 FR 59235, 11/27/01). The applicant is requesting to include its current sites in the reorganized zone as “magnet” sites. The applicant proposes that Site 4 be exempt from “sunset” time limits that otherwise apply to sites under the ASF. No usage-driven sites are being proposed at this time. Because the ASF only pertains to establishing or reorganizing a general-purpose zone, the application would have no impact on FTZ 54's authorized subzones.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is October 5, 2009. Rebuttal comments in response to material submitted during the foregoing period may be submitted during the subsequent 15-day period (to October 20, 2009).

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Kathleen Boyce at Kathleen_Boyce@ita.doc.gov or 202-482-1346.

Dated: July 31, 2009.
Andrew McGilvray,
Executive Secretary.

[FR Doc. E9-18874 Filed 8-5-09; 8:45 am]

BILLING CODE P